ENVIRONMENTAL PROTECTION AGENCY

[FRL-6562-6]

Agency Information Collection Activities; OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at farmer.sandy@epa.gov, and please refer to the appropriate EPA Information Collection Request (ICR) Number.

SUPPLEMENTARY INFORMATION:

OMB Responses to Agency Clearance Requests

OMB Approvals

EPA ICR No. 1395.04; Emergency Planning and Release Notification Requirements (EPCRA, Sections 302, 303, and 304); in 40 CFR part 355; was approved 01/21/2000; OMB No. 2050-0092; expires 01/31/2003.

EPA ICR No. 1814.02; National Health Protection Survey of Beaches; was approved 01/31/2000; OMB No. 2040-0189; expires 01/31/2003.

EPA ICR No. 0795.10; Notification of Chemical Exports—TSCA Section (12b); in 40 CFR part 707; was approved 01/31/2000; OMB No. 2070-0030; expires 01/31/2003.

EPA ICR No. 1899.01; Reporting and Recordkeeping Requirements for the Emission Guidelines for Hospital/Medical/Infectious Waste Incinerators; in 40 CFR part 60, subpart Ce; was approved 01/31/2000; OMB No. 2060-0422; expires 01/31/2003.

EPA ICR No. 1901.01; Emission Guidelines Reporting and Recordkeeping Requirements for Existing Small Municipal Waste Combustion (MWC) Units; in 40 CFR part 60, subparts B and BBBB; was approved 02/03/2000; OMB No. 2060-0424; expires 02/28/2003.

EPA ICR No. 1648.02; Control Technology Determination for Equivalent Emissions Limitations by Permit; in 40 CFR part 63, subpart B; was approved 02/03/2000; OMB No. 2060-0266; expires 11/30/2001.

EPA ICR No. 0328.08; Spill Prevention, Control, and Countermeasures (SPCC) Plans; in 40 CFR part 112; was approved 02/03/2000; OMB No. 2050-0021; expires 12/31/2000.

EPA ICR No. 1352.07; Community Right-to-Know Reporting Requirements under Sections 311 and 312 of the Emergency Planning and Community Right-to-Know Act (EPCRA); in 40 CFR part 370; was approved 02/04/2000; OMB No. 2050-0072; expires 08/31/2001.

EPA ICR No. 1891.02; NESHAP for Source Category: Publicly Owned Treatment Works; in 40 CFR part 63, subpart VVV; was approved 02/04/2000; OMB No. 2060-0428; expires 02/28/2003.

EPA ICR No. 0111.09; National Emission Standard for Asbestos; in 40 CFR part 61, subpart M; was approved 02/09/2000; OMB No. 2060-0101; expires 02/28/2003.

EPA ICR No. 0246.07; Contractor Cumulative Claim and Reconciliation; was approved 02/02/2000; OMB No. 2030-0016; expires 02/28/2003.

EPA ICR No. 1037.06; Oral and Written Purchase Orders; was approved 02/02/2000; OMB No. 2030-0007; expires 02/28/2003.

EPA ICR No. 1039.09; Monthly Progress Reports; was approved 02/02/2000; OMB No. 2030-0005; expires 02/28/2003.

EPA ICR No. 1893.02; Federal Emission Guidelines for Existing Municipal Solid Waste Landfills; in 40 CFR part 62, subpart Cc; was approved 02/02/2000; OMB No. 2060-0430; expires 02/28/2003.

EPA ICR No. 1925.01; RCRA Section 3007 Questionnaire for the Paint Manufacturing Industry; was approved 02/03/2000; OMB No. 2050-0168; expires 06/30/2001.

EPA ICR No. 1900.01 NSPS for Small Municipal Waste Combustors—Reporting and Recordkeeping Requirements; in 40 CFR part 60, subpart AAAA; was approved 02/01/2000; OMB No. 2060-0423; expires 02/28/2003.

EPA ICR No. 1906.01; Agricultural Health Study: Pesticide Exposure Study; was approved 02/09/2000; OMB No. 2080-0063; expires 02/28/2003.

EPA ICR No. 1541.06; NESHAP for Benzene Waste Operations; in 40 CFR part 61, subpart FF; was approved 02/14/2000; OMB No. 2060-0183; expires 02/28/2003.

EPA ICR No. 1088.09; NSPS for Industrial-Commercial-Institutional Steam Generating Units; in 40 CFR part 60, subpart Db; was approved 02/15/2000; OMB No. 2060-0072; expires 02/28/2003.

EPA ICR No. 1055.06; NSPS for Kraft Pulp Mills; in 40 CFR part 60, subpart BB; was approved 02/15/2000; OMB No. 2060-0021; expires 02/28/2003.

EPA ICR No. 1052.06; NSPS for Fossil-Fuel-Fired Steam Generating Units; in 40 CFR part 60, subpart D; was approved 02/15/2000; OMB No. 2060-0026; expires 02/28/2003.

OMB Disapproval

EPA ICR No. 1768.02; Collection of Impact Data on Technical Information Request for Generic Clearance, Design for the Environment (DFE); OMB No. 2070-0152; on 02/11/2000 OMB disapproved this collection.

Comments Filed

EPA ICR No. 1884.01; Inventory Update Rule Amendments (Proposed Rule); on 01/04/2000 OMB filed comment.

EPA ICR No. 1870.01; Management Standards for Cement Kiln Dust Waste—Reporting and Recordkeeping Requirements; in 40 CFR part 259; on 01/14/2000 OMB filed comment.

EPA ICR No. 1363.08; Toxic Chemical Release Reporting, Recordkeeping, Supplier Notification, and Petition under Section 313 of the Emergency Planning and Community Right-to-Know Act (EPCRA) (Proposed Rule), OMB No. 2070-0093; on 01/21/2000; OMB filed comment.

EPA ICR No. 1927.01; Reporting and Recordkeeping Requirements for the Emission Guidelines for Existing Commercial and Industrial Solid Waste Incineration (CISWI) Units; on 02/02/2000 OMB filed comment.

EPA ICR No.1926.01; Reporting and Recordkeeping Requirements for Standards of Performance for New Stationary Sources: Commercial and Industrial Solid Waste Incineration (CISWI) Units; on 02/02/2000 OMB filed comment.

Extensions of Expiration Dates

EPA ICR No. 1783.01; National Emission Standards for Hazardous Air Pollutants for Flexible Polyurethane Foam Production; in 40 CFR part 63, subpart III; OMB No. 2060-0357; on 01/18/2000 OMB extended the expiration date through 04/30/2000.

EPA ICR No. 0877.05; Environmental Radiation Ambient Monitoring System (ERAMS); OMB No. 2060-0015; on 01/18/2000 OMB extended the expiration date through 05/31/2000.

EPA ICR No. 1080.09; National Emission Standards for Hazardous Air Pollutants Benzene Emissions from Benzene Storage Vessels, and Coke By-Product Recovery Plants; in 40 CFR part 61, subpart L and Y; OMB No. 2060-0185; on 01/14/2000 OMB extended the expiration date through 07/31/2000.

EPA ICR No. 0095.10; Pre-certification and Testing Exemption Reporting and Recordkeeping Requirements; in 40 CFR part 89, subparts G and J; OMB No. 2060-0007; on 01/31/2000 OMB extended the expiration date through 07/31/2000.

EPA ICR No. 1428.04; Trade Secrets for Community Right-to-Know and Emergency Planning—EPCRA Section 322; in 40 CFR part 350; OMB No. 2050-0078; on 02/04/2000 OMB extended the expiration date through 05/31/2000.

EPA ICR No. 1415.03; NESHAP for Dry Cleaning Facilities/Perchloroethylene (PCE); in 40 CFR part 63, subpart M; OMB No. 2060-0234; on 02/01/2000 OMB extended the expiration date through 06/30/2000.

Dated: March 14, 2000.
Oscar Morales,
Director, Collection Strategies Division.

[FR Doc. 00-6976 Filed 3-20-00; 8:45 am]

BILLING CODE 6560-50-P